DEPARTMENT OF ENERGY

Federal Energy Regulatory Commission

Combined Notice of Filings #1

Take notice that the Commission received the following electric corporate filings:

Docket Numbers: EC20-54-000.

Applicants: Mankato Energy Center, LLC, Mankato Energy Center II, LLC, SWG Minnesota Holdings, LLC.

Description: Supplement to April 21, 2020 Application for Authorization Under Section 203 of the Federal Power Act, et al. of Mankato Energy Center, LLC, et al.

Filed Date: 5/4/20.

Accession Number: 20200504-5211.

Comments Due: 5 p.m. ET 5/21/20.

Docket Numbers: EC20-60-000.

Applicants: NextEra Energy, Inc., Florida Power & Light Company, Gulf Power Company.

Description: Application for Approval of Internal Corporate Reorganization under Section 203 of the Federal Power Act of NextEra Energy, Inc., et al.

Filed Date: 5/1/20.

Accession Number: 20200501-5492.

Comments Due: 5 p.m. ET 6/15/20.

Docket Numbers: EC20-61-000.

Applicants: Energy Harbor LLC, Energy Harbor Generation LLC, Energy Harbor Nuclear Generation LLC, Pleasants Corp., Pleasants LLC, Avenue Capital Management II, L.P., Nuveen Asset Management, LLC.

Description: Application for Authorization Under Section 203 of the Federal Power Act, et al. of Energy Harbor LLC, et al.

Filed Date: 5/4/20.

Accession Number: 20200504-5179.

Comments Due: 5 p.m. ET 5/26/20.

Docket Numbers: EC20-62-000.

Applicants: DTE Electric Company, Isabella Wind, LLC.

Description: Application for Authorization Under Section 203 of the Federal Power Act, et al. of DTE Electric Company, et al.

Filed Date: 5/5/20.

Accession Number: 20200505-5160.

Comments Due: 5 p.m. ET 5/26/20.

Take notice that the Commission received the following exempt wholesale generator filings:

Docket Numbers: EG20-146-000.

Applicants: Harmony Florida Solar, LLC.

Description: Notice of Self-Certification of Exempt Wholesale Generator Status of Harmony Florida Solar, LLC.

Filed Date: 5/4/20.

Accession Number: 20200504-5153.

Comments Due: 5 p.m. ET 5/26/20.

Docket Numbers: EG20-147-000.

Applicants: Taylor Creek Solar, LLC.

Description: Notice of Self-Certification of Exempt Wholesale Generator Status of Taylor Creek Solar, LLC.

Filed Date: 5/4/20.

Accession Number: 20200504-5154.

Comments Due: 5 p.m. ET 5/26/20.

Docket Numbers: EG20-148-000.

Applicants: Chicot Solar, LLC.

Description: Notice of Self-Certification of Exempt Wholesale Generator Status of Chicot Solar, LLC.

Filed Date: 5/5/20.

Accession Number: 20200505-5158.

Comments Due: 5 p.m. ET 5/26/20.

Take notice that the Commission received the following electric rate filings:

Docket Numbers: ER20-432-000.

Applicants: The Empire District Electric Company.

Description: Second Supplement and Amendment to November 30, 2019 Application for Waiver of Affiliate Rules, et al. of The Empire District Electric Company.

Filed Date: 5/1/20.

Accession Number: 20200501-5368.

Comments Due: 5 p.m. ET 5/11/20.

Docket Numbers: ER20-703-001.

Applicants: 41MB 8me, LLC.

Description: Compliance filing: 41MB 8me, LLC—Market-Based Rate Tariff Update to be effective 5/5/2020.

Filed Date: 5/4/20.

Accession Number: 20200504-5137.

Comments Due: 5 p.m. ET 5/26/20.

Docket Numbers: ER20-703-002

Applicants: 41MB 8me, LLC.

Description: Notice of Non-Material Change in Status of 41MB 8me, LLC.

Filed Date: 5/4/20.

Accession Number: 20200504-5197.

Comments Due: 5 p.m. ET 5/26/20.

Docket Numbers: ER20-1237-000.

Applicants: Ameren Illinois Company.

Description: Motion to Intervene, Formal Challenge, et al. of Southwestern Electric Cooperative, Inc. to March 10, 2020 Annual Informational Filing by Ameren Illinois Company.

Filed Date: 4/15/20.

Accession Number: 20200415-5215.

Comments Due: 5 p.m. ET 5/26/20.

Docket Numbers: ER20-1604-001.

Applicants: EF Oxnard LLC.

Description: Tariff Amendment: Amendment to Market-Based Rates Application to be effective 6/14/2020.

Filed Date: 5/5/20.

Accession Number: 20200505-5101.

Comments Due: 5 p.m. ET 5/26/20.

Docket Numbers: ER20-1760-001.

Applicants: PJM Interconnection, L.L.C.

Description: Tariff Amendment: Errata: Amendment to ISA & ICSA, SA Nos. 4501 & 4502; Queue No. AA2-061 to be effective 6/30/2016.

Filed Date: 5/5/20.

Accession Number: 20200505-5154.

Comments Due: 5 p.m. ET 5/26/20.

Docket Numbers: ER20-1765-000.

Applicants: Portland General Electric Company.

Description: Report on Interconnection Study Metrics of Portland General Electric Company.

Filed Date: 5/1/20.

Accession Number: 20200501-5535.

Comments Due: 5 p.m. ET 5/22/20.

Docket Numbers: ER20-1766-000.

Applicants: Southwest Power Pool, Inc.

Description: § 205(d) Rate Filing: 2041R9 Kansas City Board of Public Utilities PTP Service Agreement Cancellation to be effective 1/1/2020.

Filed Date: 5/5/20.

Accession Number: 20200505-5053.

Comments Due: 5 p.m. ET 5/26/20.

Docket Numbers: ER20-1767-000.

Applicants: New York Independent System Operator, Inc.

Description: Request for Waiver, et al. of New York Independent System Operator, Inc.

Filed Date: 5/4/20.

Accession Number: 20200504-5223.

Comments Due: 5 p.m. ET 5/11/20.

Docket Numbers: ER20-1768-000.

Applicants: Southwest Power Pool, Inc.

Description: Notice of Cancellation of Firm Point-To-Point Transmission Service Agreement of Southwest Power Pool, Inc.

Filed Date: 5/5/20.

Accession Number: 20200505-5145.

Comments Due: 5 p.m. ET 5/26/20.

Take notice that the Commission received the following public utility holding company filings:

Docket Numbers: PH20-11-000.

Applicants: American States Water Company.

Description: American States Water Company submits FERC 65-B Waiver Notification.

Filed Date: 5/4/20.

Accession Number: 20200504-5170.

Comments Due: 5 p.m. ET 5/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2020.
Nathaniel J. Davis, Sr.,
Deputy Secretary.

[FR Doc. 2020-10001 Filed 5-8-20; 8:45 am]

BILLING CODE 6717-01-P